DEPARTMENT OF COMMERCE

International Trade Administration

[C-570-913]

Certain New Pneumatic Off-the-Road Tires From the People's Republic of China: Rescission of Countervailing Duty Administrative Review

AGENCY: Import Administration, International Trade Administration, Department of Commerce.

SUMMARY: The Department of Commerce (the Department) is rescinding the administrative review of the countervailing duty order on certain new pneumatic off-the-road tires (OTR Tires) from the People's Republic of China (PRC) for the period January 1, 2010, through December 31, 2010, with respect to all companies. This rescission is based on the timely withdrawal requests by all the parties that requested a review.

DATES: Effective Date: February 1, 2012.

FOR FURTHER INFORMATION CONTACT: Jun Jack Zhao, AD/CVD Operations, Office 6, Import Administration, International Trade Administration, Department of Commerce, 14th Street and Constitution Avenue NW., Washington, DC 20230; telephone: (202) 482-1396.

SUPPLEMENTARY INFORMATION:

Background

On September 2, 2011, the Department published a notice of opportunity to request an administrative review of the countervailing duty order on OTR Tires from the PRC. See Antidumping or Countervailing Duty Order, Finding, or Suspended Investigation; Opportunity To Request Administrative Review, 76 FR 54735 (September 2, 2011). Guizhou Tyre Co., Ltd., Guizhou Advance Rubber Co., Ltd. and Guizhou Tyre Import and Export Corporation (collectively, GTC), and Tianjin United Tire & Rubber International Co., Ltd. (TUTRIC), timely requested an administrative review of the countervailing duty order on September 27 and 30, 2011, respectively. Also on September 30, 2011, Bridgestone Americas, Inc. and Bridgestone Americas Tire Operations, LLC. (collectively, Bridgestone), a domestic producer of subject merchandise and interested party in the original investigation, timely requested a review of seventy-three OTR Tires producers/exporters from the PRC, including GTC and TUTRIC. In accordance with section 751(a)(1) of the Tariff Act of 1930, as amended (the Act) and 19 CFR 351.221(c)(1)(i), the Department initiated an administrative review of the countervailing duty order. See Initiation of Antidumping and Countervailing Duty Administrative Reviews and Request for Revocation in Part, 76 FR 67133 (October 31, 2011).

Due to the large number of OTR Tires producers/exporters for which we received a request for review, the Department selected, in accordance with section 777A(e)(2) of the Act, the two companies that exported the largest volume of subject merchandise during the POR, GTC and Xuzhou Xugong Tyres Co., Ltd. (Xugong), as mandatory respondents. See Memorandum to Barbara E. Tillman, Director, AD/CVD Operations, Office 6, “Administrative Review of the Countervailing Duty Order on Certain New Pneumatic Off-the-road Tires from the People's Republic of China: Respondent Selection,” dated December 13, 2011. The Department issued a countervailing duty questionnaire to the government of the PRC and the two mandatory respondents on December 13, 2011.

Rescission of Countervailing Duty Administrative Review

On January 6, 2011, Bridgestone timely withdrew its review request with regard to all companies identified in its review request. Subsequently, on January 13, 2011, both GTC and TUTRIC timely withdrew their requests for review. The Department's regulations provide that the Department will rescind an administrative review if the party that requested the review withdraws its request for review within 90 days of the date of publication of the notice of initiation. See 19 CFR 351.213(d)(1). Since all parties timely withdrew their requests for review within the 90-day deadline, in accordance with 19 CFR 351.213(d)(1), the Department is fully rescinding this administrative review of the countervailing duty order.

Assessment

The Department will instruct U.S. Customs and Border Protection (CBP) to assess countervailing duties on all appropriate entries. For all companies identified in the requests for review, liquidation was suspended following the initiation of the administrative review. As appropriate, countervailing duties will be assessed at rates equal to the cash deposit or bonding rate of the estimated countervailing duties required at the time of entry, or withdrawal from warehouse, for consumption, in accordance with 19 CFR 351.212(c)(1)(i). The Department intends to issue appropriate assessment instructions directly to CBP 15 days after publication of this notice.

Notification Regarding Administrative Protective Order

This notice serves as a final reminder to parties subject to administrative protective order (APO) of their responsibility concerning the disposition of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: January 25, 2012.
Christian Marsh,
Deputy Assistant Secretary for Antidumping and Countervailing Duty Operations.

[FR Doc. 2012-2217 Filed 1-31-12; 8:45 am]

BILLING CODE 3510-DS-P